DEPARTMENT OF ENERGY

Federal Energy Regulatory Commission

[Docket No. CP19-31-000]

Notice of Schedule for Environmental Review of the Southern Star Central Gas Pipeline, Inc. Lines DT and DS Replacement Project

On December 21, 2018, Southern Star Central Gas Pipeline, Inc. (Southern Star) filed an application in Docket No. CP19-31-000 requesting authorization pursuant to Section 7(b) and 7(c) of the Natural Gas Act to construct, operate, and abandon certain natural gas pipeline facilities in Anderson and Franklin Counties, Kansas. The proposed project is known as the Lines DT and DS Replacement Project (Project) and would consist of the abandonment of two pipelines and construction of one larger diameter pipeline to replace the pipelines being abandoned.

On January 4, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA (September 9, 2019)

90-day Federal Authorization Decision Deadline (December 8, 2019)

If a schedule change becomes necessary, additional notice would be provided so that the relevant agencies are kept informed of the Project's progress.

Project Description

Southern Star proposes the construction of 31.5 miles of new 36-inch-diameter pipeline, designated as Line DPA, and three small-diameter (i.e., 2 to 4 inches) pipeline laterals, totaling about 5.9 miles. The new pipelines would replace Southern Star's existing 20-inch-diameter pipeline, designated as Line DS (31.4 miles of which 29.4 miles would be removed and 2 miles would be abandoned in place), and existing 26-inch-diameter pipeline, designated as Line DT (31.8 miles of which 29 miles would be removed and 2.8 miles would be abandoned in place). As part of the Project, Southern Star would: Make modifications at two existing compressor stations (Ottawa Compressor Station and Welda Compressor Station) and five existing tie-ins; and construct one new regulator/measuring station (Richmond Regulator Station), two new launchers and receivers, three new mainline valves, and four new tie-ins along the new pipeline laterals.

Background

On February 8, 2019, the Commission issued a Notice of Intent to Prepare an Environmental Assessment for the Proposed Lines DT and DS Replacement Project and Request for Comments on Environmental Issues (NOI). The NOI was sent to affected landowners; federal, state, and local government agencies; elected officials; environmental and public interest groups; Native American tribes; other interested parties; and local libraries and newspapers. In response to the NOI, the Commission received a comment letter from Kansas Department of Wildlife, Parks and Tourism regarding impacts on state-listed wildlife species and designated critical habitats as well as impacts on state-managed lands. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-31), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 22, 2019.
Kimberly D. Bose,
Secretary.

[FR Doc. 2019-08434 Filed 4-25-19; 8:45 am]

BILLING CODE 6717-01-P